DEPARTMENT OF TRANSPORTATION

Office of the Secretary

Notice of Applications for Certificates of Public Convenience and Necessity and Foreign Air Carrier Permits Filed Under Subpart B (Formerly Subpart Q)During the Week Ending October 16, 2010

The following Applications for Certificates of Public Convenience and Necessity and Foreign Air Carrier Permits were filed under subpart B(formerly subpart Q) of the Department of Transportation's Procedural Regulations(See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2010-0258.

Date Filed: October 14, 2010.

Due Date for Answers, Conforming Applications, or Motion to Modify Scope:November 4, 2010.

Description:Joint application of Centurion Air Cargo, Inc. (“Centurion”), Sky Lease I, Inc.d/b/a TradeWinds Airlines (“Sky Lease”) and Arrow Air, Inc. (“Arrow”) requesting approval of the de facto transfer of the international certificate and exemption authority currently held by Arrow.

Docket Number: DOT-OST-2010-0260.

Date Filed: October 15, 2010.

Due Date for Answers, Conforming Applications, or Motion to Modify Scope:November 5, 2010.

Description:Application of Air Charter, Inc. dba Air Flamenco requesting authority to conduct scheduled passenger operations as a commuter air carrier.

Renee V. Wright,
Program Manager, Docket Operations,Federal Register Liaison.

[FR Doc. 2010-27038 Filed 10-25-10; 8:45 am]

BILLING CODE 4910-9X-P